DEPARTMENT OF TRANSPORTATION

Maritime Administration

[Docket No. MARAD-2019-0093]

Deepwater Port License Application: Texas GulfLink LLC

AGENCY: Maritime Administration, Department of Transportation.

ACTION: Notice of intent; notice of public meeting; request for comments.

SUMMARY: The U.S. Coast Guard (USCG), in coordination with the Maritime Administration (MARAD), will prepare an environmental impact statement (EIS) as part of the environmental review of the Texas GulfLink LLC (Texas GulfLink) deepwater port license application. The application proposes the ownership, construction, operation and eventual decommissioning of an offshore oil export deepwater port that would be located in Federal waters approximately 28.3 nautical miles off the coast of Brazoria County, Texas in a water depth of approximately 104 feet. The deepwater port would allow for the loading of Very Large Crude Carriers (VLCCs) and other sized crude oil cargo carriers via two single point mooring buoy systems.

This Notice of Intent (NOI) requests public participation in the scoping process, provides information on how to participate and announces an informational open house and public meeting in Lake Jackson, Texas. Pursuant to the criteria provided in the Deepwater Port Act of 1974, as amended, (the Act), Texas is the designated Adjacent Coastal State for this application.

DATES: There will be one public scoping meeting held in connection with the Texas GulfLink deepwater port application. The meeting will be held in Lake Jackson, Texas on Wednesday, July 17, 2019, from 6:00 p.m. to 8:00 p.m. The public meeting will be preceded by an informational open house from 4:00 p.m. to 6:00 p.m.

The public meeting may end later than the stated time, depending on the number of persons wishing to speak. Additionally, materials submitted in response to this request for comments on the Texas GulfLink deepwater port license application must reach the Federal Docket Management Facility as detailed below by Wednesday, July 31, 2019.

ADDRESSES: The open house and public meeting Lake Jackson, TX will take place in the Marriott Courtyard Lake Jackson, 159 State Highway 288, Lake Jackson, Texas 77566, phone: (979) 297-7300, web address: https://www.marriott.com/hotels/travel/ljncy-courtyard-lake-jackson/. Free parking is available at the venue.

The public docket for the Texas GulfLink deepwater port license application is maintained by the U.S. Department of Transportation, Docket Management Facility, West Building, Ground Floor, Room W12-140, 1200 New Jersey Avenue SE, Washington, DC 20590. The license application is available for viewing at the Regulations.gov website: http://www.regulations.gov under docket number MARAD-2019-0093.

We encourage you to submit comments electronically through the Federal eRulemaking Portal at http://www.regulations.gov. If you submit your comments electronically, it is not necessary to also submit a hard copy. If you cannot submit material using http://www.regulations.gov, please contact either Mr. Patrick Clark, USCG or Yvette Fields, MARAD, as listed in the following FOR FURTHER INFORMATION CONTACT section of this document, which also provides alternate instructions for submitting written comments. Additionally, if you go to the online docket and sign up for email alerts, you will be notified when comments are posted. Anonymous comments will be accepted. All comments received will be posted without change to http://www.regulations.gov and will include any personal information you have provided. The Federal Docket Management Facility's telephone number is 202-366-9317 or 202-366-9826, the fax number is 202-493-2251.

FOR FURTHER INFORMATION CONTACT: Mr. Patrick Clark, U.S. Coast Guard, telephone: 202-372-1358, email: Patrick.W.Clark@uscg.mil or Ms. Yvette Fields, Maritime Administration, telephone: 202-366-0926, email: Yvette.Fields@dot.gov. For questions regarding viewing the Docket, call Docket Operations, telephone: 202-366-9317 or 202-366-9826.

SUPPLEMENTARY INFORMATION:

Public Meeting and Open House

We encourage you to attend the informational open house and public meeting to learn about, and comment on, the proposed deepwater port. You will have the opportunity to submit comments on the scope and significance of the issues related to the proposed deepwater port that should be addressed in the EIS.

Speaker registrations will be available at the door. Speakers at the public scoping meeting will be recognized in the following order: Elected officials, public agencies, individuals or groups in the sign-up order and then anyone else who wishes to speak.

In order to allow everyone a chance to speak at a public meeting, we may limit speaker time, extend the meeting hours, or both. You must identify yourself, and any organization you represent, by name. Your remarks will be recorded and/or transcribed for inclusion in the public docket.

You may submit written material at the public meeting, either in place of, or in addition to, speaking. Written material should include your name and address and will be included in the public docket.

Public docket materials will be made available to the public on the Federal Docket Management Facility website (see ADDRESSES).

Our public meeting location is wheelchair-accessible and compliant with the Americans with Disabilities Act. If you plan to attend an open house or public meeting and need special assistance such as sign language interpretation, non-English language translator services or other reasonable accommodation, please notify the USCG or MARAD (see FOR FURTHER INFORMATION CONTACT) at least 5 business days in advance of the public meeting. Include your contact information as well as information about your specific needs.

Request for Comments

We request public comment on this proposal. The comments may relate to, but are not limited to, the environmental impact of the proposed action. All comments will be accepted. The public meeting is not the only opportunity you have to comment on the Texas GulfLink deepwater port license application. In addition to, or in place of, attending a meeting, you may submit comments directly to the Federal Docket Management Facility during the public comment period (see Dates). We will consider all comments and material received during the 30-day scoping period.

The license application, comments and associated documentation, as well as the draft and final EISs (when published), are available for viewing at the Federal Docket Management System (FDMS) website: http://www.regulations.gov under docket number MARAD-2019-0093.

Public comment submissions should include:

• Docket number MARAD-2019-0093.

• Your name and address.

Submit comments or material using only one of the following methods:

• Electronically (preferred for processing) to the Federal Docket Management System (FDMS) website: http://www.regulations.gov under docket number MARAD-2019-0093.

• By mail to the Federal Docket Management Facility (MARAD-2019-0093), U.S. Department of Transportation, West Building, Ground Floor, Room W12-140, 1200 New Jersey Avenue SE, Washington, DC 20590-0001.

• By personal delivery to the room and address listed above between 9:00 a.m. and 5:00 p.m., Monday through Friday, except Federal holidays.

• By fax to the Federal Docket Management Facility at 202-493-2251.

Faxed, mailed or hand delivered submissions must be unbound, no larger than 8½ by 11 inches and suitable for copying and electronic scanning. The format of electronic submissions should also be no larger than 8½ by 11 inches. If you mail your submission and want to know when it reaches the Federal Docket Management Facility, please include a stamped, self-addressed postcard or envelope.

Regardless of the method used for submitting comments, all submissions will be posted, without change, to the FDMS website (http://www.regulations.gov) and will include any personal information you provide. Therefore, submitting this information to the docket makes it public. You may wish to read the Privacy and Use Notice that is available on the FDMS website and the Department of Transportation Privacy Act Notice that appeared in the Federal Register on April 11, 2000 (65 FR 19477), see Privacy Act. You may view docket submissions at the Federal Docket Management Facility or electronically on the FDMS website.

Background

Information about deepwater ports, the statutes, and regulations governing their licensing, including the application review process, and the receipt of the current application for the proposed Texas GulfLink deepwater port appears in the Texas GulfLink Notice of Application, Wednesday, June 26, 2019 edition of the Federal Register (84 FR 30298). The “Summary of the Application” from that publication is reprinted below for your convenience.

Consideration of a deepwater port license application includes review of the proposed deepwater port's impact on the natural and human environment. For the proposed deepwater port, USCG and MARAD are the co-lead Federal agencies for determining the scope of this review, and in this case, it has been determined that review must include preparation of an EIS. This NOI is required by 40 CFR 1501.7. It briefly describes the proposed action, possible alternatives and our proposed scoping process. You can address any questions about the proposed action, the scoping process or the EIS to the USCG or MARAD project managers identified in this notice (see FOR FURTHER INFORMATION CONTACT).

Proposed Action and Alternatives

The proposed action requiring environmental review is the Federal licensing of the proposed deepwater port described in “Summary of the Application” below. The alternatives to licensing the proposed port are: (1) Licensing with conditions (including conditions designed to mitigate environmental impact), (2) evaluation of proposed deepwater port and onshore site/pipeline route alternatives or (3) denying the application, which for purposes of environmental review is the “no-action” alternative.

Scoping Process

Public scoping is an early and open process for identifying and determining the scope of issues to be addressed in the EIS. Scoping begins with this notice, continues through the public comment period (see Dates), and ends when USCG and MARAD have completed the following actions:

• Invites the participation of Federal, state, and local agencies, any affected Indian tribe, the applicant, in this case Texas GulfLink, and other interested persons;

• Determines the actions, alternatives and impacts described in 40 CFR 1508.25;

• Identifies and eliminates from detailed study, those issues that are not significant or that have been covered elsewhere;

• Identifies other relevant permitting, environmental review and consultation requirements;

• Indicates the relationship between timing of the environmental review and other aspects of the application process; and

• At its discretion, exercises the options provided in 40 CFR 1501.7(b).

Once the scoping process is complete, USCG and MARAD will prepare a draft EIS. When complete, MARAD will publish a Federal Register notice announcing public availability of the Draft EIS. (If you want that notice to be sent to you, please contact the USCG or MARAD project manager identified in FOR FURTHER INFORMATION CONTACT). You will have an opportunity to review and comment on the Draft EIS. The USCG, MARAD and other appropriate cooperating agencies will consider the received comments and then prepare the Final EIS. As with the Draft EIS, we will announce the availability of the Final EIS and give you an opportunity for review and comment. The Act requires a final public hearing be held in the Adjacent Coastal State. Its purpose is to receive comments on matters related to whether or not a deepwater port license should be issued to the applicant by the Maritime Administrator. The final public hearing will be held in Lake Jackson, Texas after the Final EIS is made available for public review and comment.

Summary of the Application

Texas GulfLink is proposing to construct, own, and operate a deepwater port terminal in the Gulf of Mexico to export domestically produced crude oil. Use of the DWP would include the loading of various grades of crude oil at flow rates of up to 85,000 barrels per hour (bph). At full operating capacity, fifteen Very Large Crude Carrier (VLCC) vessels (or equivalent volumes) would be loaded per month from the proposed deepwater port for a total of 1 million barrels per day. VLCCs can carry cargos of approximately 2 million barrels of oil. Loading of one VLCC vessel is expected to take 33 hours.

The overall project would consist of offshore components as well as onshore components. The GulfLink deepwater port offshore and marine components would consist of the following:

• Texas GulfLink Offshore Metering Platform and Control Platform: Two (2) fixed offshore platforms with piles in Outer Continental Shelf Galveston Area Lease Block 423, approximately 28.3 nautical miles off the coast of Freeport, Texas in a water depth of approximately 104 feet. The fixed offshore platform would be comprised of a metering platform and a control platform. The Control Platform will contain personnel living quarters, a helideck and a vessel traffic controller control room, utilizing a state-of-the-art radar system to monitor the port on a 24-hour basis. The Metering Platform will contain: Generators, pig receivers, lease automatic custody transfer (LACT) unit, oil displacement prover loop, sampling pot, radar tower, electrical and instrumentation building, portal cranes, and a crane. Each platform will have three levels with the upper level at a 109-foot elevation, the midlevel at 84 feet, and the lower level at 69 feet.

• One (1) 42-inch outside diameter, 28.3-nautical-mile (32.57 statute mile) long crude oil pipeline would be constructed from the shoreline crossing in Brazoria County, Texas, to the GulfLink deepwater port for crude oil delivery. This pipeline would connect the onshore Jones Creek Terminal described below to the offshore Texas GulfLink deepwater port.

• The platform is connected to VLCC tankers for loading by two (2) separate 42-inch diameter departing pipelines. Each pipeline will depart the offshore platform, carrying the oil to a Pipeline End Manifold (PLEM) in approximately 104 feet water depth located 1.25 nautical miles (1.43 statute miles) from the offshore platform. Each PLEM is then connected through two (2) 24-inch hoses to a Single Point Mooring (SPM) Buoy. Two 24-inch floating loading hoses will connect the SPM Buoy to the VLCC or other crude oil carrier. SPM Buoy 1 is in Outer Continental Shelf Galveston Area Lease Block 423 and SPM Buoy is in Outer Continental Shelf Galveston Area Lease Block A36.

The Texas GulfLink deepwater port onshore storage and supply components would consist of the following:

• Texas GulfLink Onshore Storage Terminal: The proposed Jones Creek Terminal would be located in Brazoria County, Texas, on approximately 200 acres of land consisting of eight (8) above ground storage tanks, each with a working storage capacity of 685,000 barrels, for a total onshore storage capacity of approximately 6 million barrels. The facility can accommodate five (5) additional tanks, bringing the total to thirteen (13) tanks or 9.8 million barrels of shell capacity with 8.6 million barrels of working capacity, should commercial drivers dictate.

• The Jones Creek Terminal also would include: Six (6) electric-driven mainline crude oil pumps; three (3) electric driven booster crude oil pumps; one (1) crude oil pipeline pig launcher; one (1) crude oil pipeline pig receiver; two (2) measurement skids for measuring incoming crude oil—one (1) skid located at the incoming pipeline from the Bryan Mound facility, and one (1) skid installed for the outgoing crude oil barrels leaving the tank storage to be loaded on the VLCC; and ancillary facilities to include an operations control center, electrical substation, offices, and warehouse building.

• Two (2) onshore crude oil pipelines would be constructed onshore to support the Texas GulfLink deepwater port and include the following items:

○ One (1) proposed incoming 9.45 statute mile 36-inch outside diameter pipeline originating at the Department of Energy (DOE) facility in Bryan Mound with connectivity to the Houston market.

○ One (1) proposed outgoing 12.45 statute mile 42-inch outside diameter connection from the Jones Creek Terminal to the shore crossing where this becomes the subsea pipeline supplying the offshore deepwater port.

Privacy Act

The electronic form of all comments received into the FDMS can be searched by the name of the individual submitting the comment (or signing the comment, if submitted on behalf of an association, business, labor union, etc.). The Department of Transportation Privacy Act Statement can be viewed in the Federal Register published on April 11, 2000 (Volume 65, Number 70, pages 19477-78) or by visiting http://www.regulations.gov.

(Authority: 33 U.S.C. 1501, et seq.; 49 CFR 1.93(h))

Dated: June 27, 2019.
By Order of the Maritime Administrator.
T. Mitchell Hudson, Jr.,
Secretary, Maritime Administration.

[FR Doc. 2019-14178 Filed 7-2-19; 8:45 am]

BILLING CODE 4910-81-P